DEPARTMENT OF COMMERCE

National Oceanic And Atmospheric Administration

National Estuarine Research Reserve System

AGENCY: Office of Ocean and Coastal Resource Management (OCRM), National Ocean Service (NOS), National Oceanic and Atmospheric Administration, Department of Commerce.

ACTION: Notice of public meetings and intent to prepare a Draft Environmental Impact Statement

SUMMARY: In accordance with the National Environmental Policy Act and with section 315 of the Coastal Zone Management Act of 1972, as amended, San Francisco State University and the National Oceanic and Atmospheric Administration (NOAA) intend to conduct public scoping meetings on the proposed San Francisco Bay National Estuarine Research Reserve to solicit comments on significant issues related to the preparation of a Draft Environmental Impact Statement (DEIS)/Draft Management Plan (DMP). The DEIS/DMP will address research, monitoring, education and resource protection needs for the reserve.

DATE AND TIME: Tuesday, July 25th, 7 to 9 p.m.

ADDRESSES: Marin Civic Center, Marin County Board of Supervisors Chambers, 3501 Civic Center Drive, San Rafael, CA 94903.

DATE AND TIME: Wednesday, July 26th, 7 to 9 p.m.

ADDRESSES: Suisun City, City Hall, Suisun City Council Chambers, 701 Civic Center Blvd, Suisun City, CA 94585.

FOR FURTHER INFORMATION CONTACT: Dr. Todd Hopkins, San Francisco State University, at (415) 338-3703, or Matt Menashes, Estuarine Reserves Division, Office of Ocean and Coastal Resources Management, NOAA, at (301) 713-3132, extension 165.

SUPPLEMENTARY INFORMATION: In 1993, NOAA approved the nomination of a proposed multi-component National Estuarine Research Reserve (NERR) for San Francisco Bay. Research reserves provide natural coastal habitats as field laboratories for baseline ecological studies and education programs. Research and monitoring programs are designed to enhance scientific understanding of the coastal environment and aid in resource management decision making.

In early 1999 the original proposal approved by NOAA was modified. The modified proposal meets the principles established for inclusion of areas in the National Estuarine Research Reserve System. These include:

1. Biogeographic and typologic contribution,

2. Ecological characteristics,

3. Value of the sites for research, monitoring, education and interpretation,

4. Site management feasibility including (a) land ownership, (b) the ability to sustain reserve resources for long term research and education use, and (c) partnership potential.

The San Francisco Bay NERR is proposed to be administered by San Francisco State University (SFSU) in cooperation with partner agencies including Solano County Farmlands and Open Space Foundation, East Bay Regional Park District, and the California Department of Parks and Recreation.

SFSU has developed an outline of a preliminary draft management plan. That outline identifies specific needs and priorities related to research, monitoring, education, and resource protection at the proposed reserve. It also identifies needs for an administrative plan, volunteer program and facilities development needs, public access, and visitor use policies.

At the public meetings, SFSU and NOAA will provide a synopsis of the process for developing a DEIS/DMP and will solicit comments on significant environmental issues that will be incorporated into a DEIS.

Interested parties who wish to submit suggestions, comments or substantive information regarding the scope or content of the proposed DEIS/DMP are invited to attend either of the above meetings. Parties who wish to respond in writing should do so by August 15, 2000, to Dr. Todd Hopkins, Romberg Tiburon Center, San Francisco State University, P.O. Box 855, Tiburon, CA 94920, or Matthew Menashes, NOAA Estuarine Reserves Division, 1305 East-West Highway N/ORM5, Silver Spring, MD 20910.

Federal Domestic Assistance Catalog Number 11.420 (Coastal Zone Management) Research Reserves
Dated: June 30, 2000.
John Oliver,
Chief Financial Officer/Chief Administrative Officer, National Ocean Service.

[FR Doc. 00-17157 Filed 7-6-00; 8:45 am]

BILLING CODE 3510-08-P